DEPARTMENT OF TRANSPORTATION

Federal Aviation Administration

14 CFR Part 71

[Docket No. FAA-2019-0598; Airspace Docket No. 19-ASO-16]

RIN 2120-AA66

Amendment of the Class D and Class E Airspace; Meridian, MS

AGENCY: Federal Aviation Administration (FAA), DOT.

ACTION: Final rule, correction.

SUMMARY: This action corrects a final rule published in the Federal Register on January 30, 2020, amending the Class D airspace at Joe Williams NOLF, Meridian, MS; Key Field, Meridian, MS; and NAS Meridian/McCain Field, Meridian, MS; the Class E airspace area designated as an extension to Class D airspace at Key Field; and the Class E airspace extending upward from 700 feet above the surface at Key Field, Joe Williams NOLF, and NAS Meridian/McCain Field. A cardinal direction was inadvertently omitted from the Class E airspace extending upward from 700 feet above the surface at Key Field. This action corrects that omission.

DATES: Effective date 0901 UTC, May 21, 2020. The Director of the Federal Register approves this incorporation by reference action under Title 1 Code of Federal Regulations part 51, subject to the annual revision of FAA Order 7400.11 and publication of conforming amendments.

FOR FURTHER INFORMATION CONTACT: Jeffrey Claypool, Federal Aviation Administration, Operations Support Group, Central Service Center, 10101 Hillwood Parkway, Fort Worth, TX 76177; telephone (817) 222-5711.

SUPPLEMENTARY INFORMATION:

History

The FAA published a final rule in the Federal Register (85 FR 5316; January 20, 2020) for FR Doc. 2020-01568 amending the Class D airspace at Joe Williams NOLF, Meridian, MS; Key Field, Meridian, MS; and NAS Meridian/McCain Field, Meridian, MS; the Class E airspace area designated as an extension to Class D airspace at Key Field; and the Class E airspace extending upward from 700 feet above the surface at Key Field, Joe Williams NOLF, and NAS Meridian/McCain Field. Subsequent to publication, the FAA identified that a cardinal direction was inadvertently omitted from the Class E airspace extending upward from 700 feet above the surface at Key Field. This action corrects that error.

Class E airspace designations are published in paragraph 6005 of FAA Order 7400.11D dated August 8, 2019, and effective September 15, 2019, which is incorporated by reference in 14 CFR 71.1. The Class E airspace designations listed in this document will be subsequently published in the Order.

Correction to Final Rule

Accordingly, pursuant to the authority delegated to me, Amendment of the Class D and Class E Airspace; Meridian, MS, published in the Federal Register of January 30, 2020 (85 FR 5318), FR Doc. 2019-01568, is corrected as follows:

§ 71.1 [Amended]

On page 5318, column 3, line 12, amend to read, “. . . miles east of the 009°. . .”

Issued in Fort Worth, Texas, on April 27, 2020.
Steven Phillips,
Acting Manager, Operations Support Group, ATO Central Service Center.

[FR Doc. 2020-09479 Filed 5-5-20; 8:45 am]

BILLING CODE 4910-13-P